DEPARTMENT OF ENERGY

Federal Energy Regulatory Commission

Combined Notice of Filings #1

Take notice that the Commission received the following electric corporate filings:

Docket Numbers: EC20-87-000.

Applicants: Rippey Wind Energy LLC.

Description: Application for Authorization Under Section 203 of the Federal Power Act, et al. of Rippey Wind Energy LLC.

Filed Date: 8/5/20.

Accession Number: 20200805-5085.

Comments Due: 5 p.m. ET 8/26/20.

Take notice that the Commission received the following exempt wholesale generator filings:

Docket Numbers: EG20-225-000.

Applicants: Hardin Solar Holdings LLC.

Description: Notice of Self-Certification of Exempt Wholesale Generator Status of Hardin Solar Holdings LLC.

Filed Date: 8/5/20.

Accession Number: 20200805-5049.

Comments Due: 5 p.m. ET 8/26/20.

Take notice that the Commission received the following electric rate filings:

Docket Numbers: ER19-2856-001.

Applicants: Birchwood Power Partners, L.P.

Description: Report Filing: Refund Report to be effective N/A.

Filed Date: 8/5/20.

Accession Number: 20200805-5052.

Comments Due: 5 p.m. ET 8/26/20.

Docket Numbers: ER20-2402-001.

Applicants: PJM Interconnection, L.L.C.

Description: Tariff Amendment: Supplement to Original ISA, SA No. 5682; Queue Nos. AF1-190/AF1-191 to be effective 6/11/2020.

Filed Date: 8/5/20.

Accession Number: 20200805-5103.

Comments Due: 5 p.m. ET 8/26/20.

Docket Numbers: ER20-2607-000.

Applicants: New England Power Company.

Description: Compliance filing: Order No. 864 Compliance Filing Re Seabrook Transmission Support Agreement to be effective 1/27/2020.

Filed Date: 8/4/20.

Accession Number: 20200804-5240.

Comments Due: 5 p.m. ET 8/25/20.

Docket Numbers: ER20-2608-000.

Applicants: Public Service Company of New Hampshire.

Description: Compliance filing: Order No. 864 Compliance Filing, RM19-5 to be effective 1/27/2020.

Filed Date: 8/5/20.

Accession Number: 20200805-5006.

Comments Due: 5 p.m. ET 8/26/20.

Docket Numbers: ER20-2609-000.

Applicants: NSTAR Electric Company.

Description: Compliance filing: Order No. 864 Compliance Filing, RM19-5 to be effective 1/27/2020.

Filed Date: 8/5/20.

Accession Number: 20200805-5008.

Comments Due: 5 p.m. ET 8/26/20.

Docket Numbers: ER20-2610-000.

Applicants: The Connecticut Light and Power Company.

Description: Compliance filing: Order No. 864 Compliance Filing, RM19-5 to be effective 1/27/2020.

Filed Date: 8/5/20.

Accession Number: 20200805-5009.

Comments Due: 5 p.m. ET 8/26/20.

Docket Numbers: ER20-2611-000.

Applicants: Southwest Power Pool, Inc.

Description: § 205(d) Rate Filing: 3723 Southwestern Power Admin & WFEC Interconnection Agr to be effective 8/1/2020.

Filed Date: 8/5/20.

Accession Number: 20200805-5010.

Comments Due: 5 p.m. ET 8/26/20.

Docket Numbers: ER20-2612-000.

Applicants: Hardin Solar Holdings LLC.

Description: Baseline eTariff Filing: Application for Market-Based Rate Authorization to be effective 8/24/2020.

Filed Date: 8/5/20.

Accession Number: 20200805-5070.

Comments Due: 5 p.m. ET 8/26/20.

Docket Numbers: ER20-2613-000.

Applicants: Midcontinent Independent System Operator, Inc.

Description: § 205(d) Rate Filing: 2020-08-05_SA 3243 Deuel Harvest Wind-OTP 1st Rev GIA (J526) to be effective 7/22/2020.

Filed Date: 8/5/20.

Accession Number: 20200805-5072.

Comments Due: 5 p.m. ET 8/26/20.

Docket Numbers: ER20-2614-000.

Applicants: New England Power Company.

Description: Compliance filing: Order No. 864 Compliance Filing Re New England Power AC Support Agreement to be effective 1/27/2020.

Filed Date: 8/5/20.

Accession Number: 20200805-5053.

Comments Due: 5 p.m. ET 8/26/20.

Docket Numbers: ER20-2615-000.

Applicants: Tri-State Generation and Transmission Association, Inc.

Description: § 205(d) Rate Filing: Rate Schedule FERC No. 280 between Tri-State and Wheatland to be effective 8/6/2020.

Filed Date: 8/5/20.

Accession Number: 20200805-5130.

Comments Due: 5 p.m. ET 8/26/20.

Docket Numbers: ER20-2616-000.

Applicants: Public Service Company of Colorado.

Description: § 205(d) Rate Filing: PSCo-TSGT-UPI-Rev. Const, O&M-Fairgrounds SS-318-0.1.0 to be effective 8/6/2020.

Filed Date: 8/5/20.

Accession Number: 20200805-5133.

Comments Due: 5 p.m. ET 8/26/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 5, 2020.
Nathaniel J. Davis, Sr.,
Deputy Secretary.

[FR Doc. 2020-17612 Filed 8-11-20; 8:45 am]

BILLING CODE 6717-01-P